Title 3—

The President

Proclamation 10607 of August 18, 2023

National Employer Support of the Guard and Reserve Week, 2023

By the President of the United States of America

A Proclamation

The United States military is the greatest fighting force in the history of the world—and that's in no small part due to our National Guard and Reserve members, who stand ready to defend our Nation at a moment's notice. Just as these brave women and men have shown ultimate faith to our country, many of their employers have gone above and beyond to keep faith with them. This week, we honor our Guard and Reserve troops for all that they sacrifice to keep our country and their communities safe. And we thank their employers, whose support makes their service possible.

Our National Guard and Reserve members are not only a source of pride for the military, they are also often the bedrock of their communities. While serving as citizen Soldiers and Airmen of the National Guard and Soldiers, Sailors, Airmen, Marines, and Coast Guardsmen of the Reserve, they serve as teachers, pastors, public servants, engineers, medical professionals, small business owners, mothers, fathers, and so much more. Every day, they balance the competing demands of civilian life and military service, including leaving their communities at a moment's notice when our country calls.

Many patriotic employers have stepped up to do all that they can to support the mission of their Guard and Reserve employees. They offer generous leave policies while service members are deployed or undergoing military training. They ensure that spouses and families maintain access to health care and benefits while their loved ones are away. And they demonstrate steadfast support for the service members who sacrifice so much for all of us. That matters—it ensures that our National Guard and Reserve members can continue to strengthen our national security while maintaining meaningful roles at home.

The Biden family is a National Guard family, and we remain inspired by all Americans who choose to serve something bigger than themselves, just as our son Major Beau Biden did in the Delaware Army National Guard. We owe our troops, including our Guard and Reserve members, a debt of gratitude that we can never fully repay. During National Employer Support of the Guard and Reserve Week, let us also show our appreciation to employers for all that they do to support the brave Americans who stand at the ready to dare all, risk all, and give all for our Nation.

NOW, THEREFORE, I, JOSEPH R. BIDEN JR., President of the United States of America, by virtue of the authority vested in me by the Constitution and the laws of the United States, do hereby proclaim August 20 through August 26, 2023, as National Employer Support of the Guard and Reserve Week. I call upon all Americans to observe this week by honoring our National Guard and Reserve service members, who sacrifice so much to keep our country and communities safe and secure, and to commend the employers who empower these service members to thrive.

IN WITNESS WHEREOF, I have hereunto set my hand this eighteenth day of August, in the year of our Lord two thousand twenty-three, and of the Independence of the United States of America the two hundred and forty-eighth.

[FR Doc. 2023-18246

Filed 8-22-23; 8:45 am]

Billing code 3395-F3-P